DEPARTMENT OF TRANSPORTATION

National Highway Traffic Safety Administration

[Docket No. NHTSA-2014-0004; Notice 2]

Extension of Comment Period on Whether Nonconforming 2012 McLaren MP4[12C] Passenger Cars Are Eligible for Importation

AGENCY: National Highway Traffic Safety Administration (NHTSA), DOT.

ACTION: Extension of comment period.

SUMMARY: This document announces the extension of the comment period on a petition for NHTSA to decide that 2012 McLaren MP4[12C] passenger cars that were not originally manufactured to comply with all applicable Federal motor vehicle safety standards are eligible for importation into the United States.

DATES: The closing date for comments on the petition is April 16, 2014.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. e.t., Monday through Friday, except Federal holidays.

• Fax: 202-493-2251

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202 366 5308).

SUPPLEMENTARY INFORMATION: On March 3, 2014, NHTSA published a notice (at 79 FR 11869) that it had received a petition to decide that nonconforming 2012 McLaren MP4[12C] passenger cars are eligible for importation into the United States. The notice solicited public comments on the petition and stated that the closing date for comments is April 2, 2014.

This is to notify the public that NHTSA is extending the comment period on this petition, and allowing it to run until April 16, 2014. This reopening is based on a request dated March 27, 2014, from McLaren Automotive, Inc. (“McLaren”) the vehicle's manufacturer. McLaren stated that the extension was needed because, in McLaren's view, the petitioner cannot satisfy the statutory criteria, since it would be very difficult, if not impossible, to bring nonconforming MP4[12C] vehicles into compliance with all applicable FMVSSs. However, because many of the compliance issues that are raised by the subject petition are complex, McLaren will not be able to complete the preparation of its comments in time to meet the current due date. McLaren believes that this short extension will allow the preparation of a response that will address the relevant issues, and that it will not cause any hardship to the petitioner or to any other interested person.

NHTSA has granted McLaren's request. All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Jeffrey Giuseppe,
Acting Director, Office of Vehicle Safety Compliance.

[FR Doc. 2014-08094 Filed 4-10-14; 8:45 am]

BILLING CODE 4910-59-P